DEPARTMENT OF HOMELAND SECURITY

Coast Guard

33 CFR Part 117

[Docket No. USCG-2018-0385]

Drawbridge Operation Regulation; Okeechobee Waterway (St. Lucie Canal), Indiantown, FL

AGENCY: Coast Guard, DHS.

ACTION: Notice of deviation from drawbridge regulation.

SUMMARY: The Coast Guard has issued a temporary deviation from the operating schedule that governs the Seaboard System (CSX) Railroad Bridge across the Okeechobee Waterway (St. Lucie Canal), mile 28.2, at Indiantown, FL. The deviation is necessary to accommodate the replacement of the main drive gears on the bridge. This deviation allows the bridge to remain closed to navigation during replacement operations.

DATES: This deviation is effective without actual notice from June 4, 2018 through 7 a.m. on June 12, 2018. For the purposes of enforcement, actual notice will be used from 7 a.m. on May 28, 2018, until June 4, 2018.

ADDRESSES: The docket for this deviation, USCG-2018-0385 is available at http://www.regulations.gov. Type the docket number in the “SEARCH” box and click “SEARCH”. Click on Open Docket Folder on the line associated with this deviation.

FOR FURTHER INFORMATION CONTACT: If you have questions on this temporary deviation, call or email LT Ruth Sadowitz, U.S. Coast Guard Sector Miami, Waterways Management Division, telephone 305-535-4307, email ruth.a.sadowitz@uscg.mil.

SUPPLEMENTARY INFORMATION: PCL Civil Constructors, Inc., on behalf of bridge owner, CSX Transportation, Inc, has requested a temporary deviation from the current operating regulation that governs the Seaboard System (CSX) Railroad Bridge across the Okeechobee Waterway (St. Lucie Canal), mile 28.2, at Indiantown, FL. The deviation is necessary to facilitate the replacement of the main drive gears and rack segments which will improve the reliability of the bridge. The bridge is a swing bridge and has a vertical clearance in the closed to navigation position of 7 feet at normal St. Lucie Canal stage of 14.5 feet.

The current operating schedule is set out in 33 CFR 117.317(e). Under this temporary deviation, the bridge will only open with a four (4) hour notice to the bridge tender at (772) 597-3822 from 7 a.m. on May 28, 2018 through 7 p.m. on June 3, 2018, and will remain in the closed to navigation position from 7 a.m. on June 4, 2018 through 7 a.m. on June 12, 2018. The Okeechobee Waterway (St. Lucie Canal) is predominantly used by a variety of vessels including U.S. government vessels, small commercial vessels, recreational vessels and tugs and barge traffic. The Coast Guard has carefully considered the restrictions with waterway users in publishing this temporary deviation.

Vessels able to pass through the bridge in the closed position may do so at anytime. The bridge will not be able to open for emergencies and there is no immediate alternate route for vessels to pass. The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: May 29, 2018.
Barry L. Dragon,
Director, Bridge Branch, Seventh Coast Guard District.

[FR Doc. 2018-11829 Filed 6-1-18; 8:45 am]

BILLING CODE 9110-04-P